DEPARTMENT OF COMMERCE

National Oceanic and Atmospheric Administration

RIN 0649-XC755

South Atlantic Fishery Management Council (Council); Public Meetings

AGENCY: National Marine Fisheries Service (NMFS), National Oceanic and Atmospheric Administration (NOAA), Commerce.

ACTION: Notice of public hearing and scoping meetings.

SUMMARY: The South Atlantic Fishery Management Council (SAFMC) will hold a series of public hearing meetings pertaining to: Amendment 5 to the Dolphin Wahoo Fishery Management Plan (FMP); Amendment 14 to the Snapper Grouper FMP; Amendment 8 to the Coral FMP; and Amendments 19 and 20 as well as Framework actions to the Coastal Migratory Pelagics FMP.

DATES: The meetings will be held from August 5, 2013 through August 15, 2013. All meetings will be held from 4 p.m. to 7 p.m.

ADDRESSES: Meeting Addresses:

1. August 5, 2013: Richmond Hill City Center, 520 Cedar Street, Richmond Hill, GA 31324; telephone: (912) 445-0043.

2. August 6, 2013: Jacksonville Marriott, 4670 Salisbury Road, Jacksonville, FL 32256; telephone: (904) 296-2222.

3. August 7, 2013: Doubletree by Hilton Cocoa Beach Oceanfront, 2080 North Atlantic Avenue, Cocoa Beach, FL 32931; telephone: (321) 783-9222.

4. August 8, 2013: Hilton Key Largo, 97000 Overseas Highway, Key Largo, FL 33037; telephone: (305) 852-5553.

5. August 13, 2013: Hilton Garden Inn, 5265 International Boulevard, North Charleston, SC 29418; telephone: (843) 308-9330.

6. August 15, 2013: Bridge Point Hotel, 101 Howell Road, New Bern, NC 28582; telephone: (252) 636-3637.

Council Address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion are as follows:

Public Hearing: Amendment 5 to the Dolphin Wahoo FMP

1. This amendment would revise the Allowable Biological Catches (ABCs), Annual Catch Limits (ACLs), Accountability Measures (AMs) and Annual Catch Targets (ACTs) for Dolphin and Wahoo that were implemented through the Comprehensive ACL Amendment.

2. Additionally, the amendment would revise management framework in the Dolphin Wahoo FMP as well as commercial trip limits for Dolphin.

3. Written comments may be directed to Bob Mahood, Executive Director, SAFMC (see Council address) or via email to: DWAmend5Comments@safmc.net. Comments will be accepted until 5 p.m. on August 18, 2013.

Public Hearing: Amendment 14 to the Snapper Grouper FMP

1. This amendment would modify the fishing year for Greater Amberjack and Black Sea Bass as well as the commercial fishing seasons for Vermilion Snapper.

2. The amendment would also modify the recreational AMs for Black Sea Bass and Vermilion Snapper as well as the trip limits for the Gag commercial sector.

3. Written comments may be directed to Bob Mahood, Executive Director, SAFMC (see Council address) or via email to: SGRegAm14Comments@safmc.net. Comments will be accepted until 5 p.m. on August 18, 2013.

Public Hearing: Amendment 8 to the Coral FMP

1. This amendment includes alternatives for expanding protection of Coral Habitat Areas of Particular Concern (HAPCs) and transit through the Oculina Bank HAPC.

2. Written comments may be directed to Bob Mahood, Executive Director, SAFMC (see Council address) or via email to: CoralAm8Comments@safmc.net. Comments will be accepted until 5 p.m. on August 18, 2013.

Public Hearing: Amendments 19 and 20 and Framework Actions to the Coastal Migratory Pelagics (CMP) FMP

1. Amendment 19 is a joint Gulf of Mexico and South Atlantic amendment. The amendment would address the sale of King and Spanish Mackerel caught recreationally. The amendment also includes actions that would: eliminate or restrict inactive King Mackerel commercial permits; and eliminate or modify income requirements for King and Spanish Mackerel commercial permits.

2. Amendment 20 is a joint Gulf of Mexico and South Atlantic amendment. The amendment would: Modify the commercial hook-and-line trip limits for Gulf migratory King Mackerel; change the fishing season for Gulf migratory King Mackerel in the Eastern and Western fishing zones; and establish provisions allowing transit through areas closed to King Mackerel fishing. Amendment 20 would also: establish ACLs for Atlantic migratory King and Spanish Mackerel; modify framework procedures; and modify ACLs and ACTs for Gulf and South Atlantic migratory Cobia.

3. South Atlantic Framework Actions would change restrictions on transfer-at-sea and gillnet allowances for the Atlantic migratory Spanish Mackerel commercial sector. Framework Actions would also modify commercial trip limits for Atlantic King Mackerel for the Florida East Coast Subzone.

4. Written comments may be directed to Bob Mahood, Executive Director, SAFMC (see Council address) or via email to: MackAm19Comments@safmc.net for CMP Amendment 19 MackAm20Comments@safmc.net for CMP Amendment 20 SAtlCMPFWComments@safmc.net for CMP Framework Actions

Comments will be accepted until 5 p.m. on August 18, 2013.

Council staff will present an overview of the amendments and will be available for informal discussions and to answer questions. Members of the public will have an opportunity to go on record at any time during the meeting hours to record their comments on the public hearing topics for consideration by the Council. Local Council representatives will attend the meetings and listen to public comment.

Special Accommodations

These meetings are physically accessible to people with disabilities. Requests for auxiliary aids should be directed to the council office (see ADDRESSES) 3 days prior to the meeting.

Note: The times and sequence specified in this agenda are subject to change.

Authority: 16 U.S.C. 1801 et seq.

Dated: July 9, 2013.
Tracey L. Thompson,
Acting Deputy Director, Office of Sustainable Fisheries, National Marine Fisheries Service.

[FR Doc. 2013-16724 Filed 7-11-13; 8:45 am]

BILLING CODE 3510-22-P